DEPARTMENT OF LABOR

Employment and Training Administration

[TA-W-62,614]

Weyerhaeuser Green Mountain Lumber Mill, Toutle, WA; Notice of Affirmative Determination Regarding Application for Reconsideration

By application dated February 11, 2008, the IAM Woodworkers Local W536 (the Union) requested administrative reconsideration of the negative determination regarding workers' eligibility to apply for Trade Adjustment Assistance (TAA) and Alternative Trade Adjustment Assistance (ATAA) applicable to workers and former workers of the subject firm. The determination was issued on January 28, 2008. The Notice of determination was published in the Federal Register on February 13, 2008 (73 FR 8370). Workers produce rough sawn softwood dimensional lumber.

The negative determination was based on the Department's findings that sales and production at the subject firm remained relatively stable during the relevant period compared to the comparable period the previous year; the subject firm did not shift production of rough sawn softwood dimensional lumber to a foreign country; and the subject firm did not import articles like or directly competitive with the lumber produced by the subject workers. The determination also stated that the predominant cause of worker separations is the transfer of production to another, domestic, affiliated facility.

In the request for reconsideration, the Union alleged that Weyerhaeuser Corporation, the parent company, operates softwood dimensional lumber facilities in Canada and that increased imports by Weyerhaeuser Corporation contributed importantly to the subject workers' separations.

The Department has carefully reviewed the Union's request for reconsideration and has determined that the Department will conduct further investigation.

Conclusion

After careful review of the application, I conclude that the claim is of sufficient weight to justify reconsideration of the U.S. Department of Labor's prior decision. The application is, therefore, granted.

Signed at Washington, DC, this 29th day of February 2008.
Elliott S. Kushner,
Certifying Officer, Division of Trade Adjustment Assistance.

[FR Doc. E8-4444 Filed 3-6-08; 8:45 am]

BILLING CODE 4510-FN-P